DEPARTMENT OF HEALTH AND HUMAN SERVICES

Office of the Secretary

[Document Identifier: HHS-OS-19060-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before August 19, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and the document identifier HHS-OS-19060-30D for reference.

Information Collection Request Title: Living Healthier, Living Longer Program Evaluation.

Abstract: The Department of Health and Human Services (HHS), the Office of Women's Health, (OWH) Coordinating Committee on Lesbian, Gay, Bi-sexual and Transgender (LGBT) Issues has prioritized the collection of health data on LGBT populations. In response, OWH funded an initiative to “identify and test effective and innovative ways of reducing obesity in lesbian and bisexual women”. This initiative will include nutritional and physical activity counseling and activities, and will be implemented in New York City. It will be tailored to bisexual and lesbian women forty years and over. Evaluation of the initiative will address the following questions: (1) Does a healthy weight intervention based on the individual and the social environment improve health and reduce weight of older lesbian and bisexual women; and, (2) If the intervention does improve health and/or reduce weight, what attributes of the intervention contributed to this success? Information will be gathered and analyzed in an effort to identify and understand the effects of this healthy weight intervention and to inform the applicability of the intervention to other sites across the United States. The project is scheduled for one year.

Need and Proposed Use of the Information: Addresses barriers to health for the LB community, and promotes overall health and wellbeing. The intervention will incorporate community-identified weight loss/risk reduction needs of this population. Following the completion of the surveys and interventions, collected data will be used to develop increased health-related services and activities for LB women, web-based tools and materials for LB women, increased community recreation resources inclusive of sexual minority women.

Likely Respondents: Lesbian and bi-sexual women forty years of age and older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Baseline Survey | 40 | 1 | 15/60 | 600/60 (10 hours).
Study Completion Survey | 40 | 1 | 15/60. | 600/60 (10 hours).
Pedometer Profile | 40 | 1 | 2/60 | 80/60 (1 hour).
Health Screen (physical measurement) | 40 | 3 | 10/60 | 1,200/60 (20 hours).
Health History Questionnaire | 40 | 1 | 12/60 | 480/60 (8 hours).
Focus Group (study midpoint) | 40 | 1 | 1 | 40 hours.
Focus Group (study completion) | 40 | 1 | 1 | 40 hours.
Total |  |  |  | 129 hours.

Keith A. Tucker,
Information Collection Clearance Officer.

[FR Doc. 2013-17218 Filed 7-17-13; 8:45 am]

BILLING CODE 4150-33-P